DEPARTMENT OF COMMERCE

National Oceanic and Atmospheric Administration

[I.D. 110904C]

Re-Initiation of Request for Nominations to the Marine Fisheries Advisory Committee (MAFAC)

AGENCY: National Marine Fisheries Service (NMFS), National Oceanic and Atmospheric Administration (NOAA), Commerce.

ACTION: Notice of request for nominations.

SUMMARY: The Marine Fisheries Advisory Committee (the “Committee) is the only Federal Advisory committee with the responsibility to advise the Secretary of Commerce (Secretary) on all matters concerning living marine resources that are the responsibility of the Department of Commerce. The Committee makes recommendations to the Secretary to assist in the development and implementation of Departmental regulations, policies and programs critical to the mission and goals of the National Marine Fisheries Service. The Committee is composed of leaders in the commercial, recreational, environmental, academic, state, tribal, and consumer interests from the nation's coastal regions.

On June 14, NMFS published a Notice requesting nominees for four vacancies on the Committee. The nomination ran through July 15, 2004, and resulted in the appointment of only two of the vacancies. Therefore, in keeping with the Administration's policy to ensure the Committee reflect a balanced composition of national interests, expertise and geographic representation, the Administration has decided to reinitiate a request for additional nominations in the hopes of receiving a more diverse selection of qualified candidates to fill the remaining two vacancies in time for the Committee's next meeting in January 2005. The Department of Commerce is seeking up to two highly qualified individuals knowledgeable about fisheries and living marine resources to serve on the Committee.

DATES: Nominations must be postmarked on or before November 30, 2004.

ADDRESSES: Nominations should be sent to Laurel Bryant, Executive Director, MAFAC, Office of Constituent Services, NMFS, 1315 East-West Highway #9508, Silver Spring, Maryland 20910.

FOR FURTHER INFORMATION CONTACT: Laurel Bryant, Executive Director; (301) 713-2379 x171. E-mail: Laurel.Bryant@noaa.gov.

SUPPLEMENTARY INFORMATION: The establishment of MAFAC was approved by the Secretary on December 28, 1970, and initially chartered under the Federal Advisory Committee Act, 5, U.S.C. App.2, on February 17, 1971. The Committee meets twice a year with supplementary subcommittee meetings as determined necessary by the Secretary. Individuals serve for a term of three years for no more than two consecutive terms if re-appointed. No less that 15 and no more than 21 individuals may serve on the Committee. Membership is comprised of highly qualified individuals representing commercial and recreational fisheries interests, environmental organizations, academic institutions, governmental, tribal and consumer groups from a balance of geographical regions, including the Hawaiian and the Pacific Islands, and the U.S. Virgin Islands. Nominations are encouraged from all interested parties involved with or representing interests affected by Agency actions in managing living marine resources. Nominees should possess demonstrable expertise in a field related to the management of living marine resources and be able to fulfill the time commitments required for two meetings annually.

A MAFAC member cannot be a Federal agency employee or a member of a Regional Fishery Management Council. Selected candidates must have security checks and complete financial disclosure forms. Membership is voluntary, and except for reimbursable travel and related expenses, service is without pay.

Each submission should include the submitting person's or organization's name and affiliation, a cover letter describing the nominee's qualifications and interest in serving on the Committee, a curriculum vitae or resume of nominee, and no more than three supporting letters describing the nominee's qualifications and interest in serving on the Committee. Self-nominations are acceptable. The following contact information should accompany each nominee's submission: name, address, phone number, fax number, and e-mail address if available.

Nominations should be sent to (see ADDRESSES) and nominations must be received by (see DATES). The full text of the Committee Charter and its current membership can be viewed at the Agency's web page at www.nmfs.noaa.gov/mafac.htm.

Dated: November 9, 2004.
Alan D. Risenhoover,
Deputy Director, Office of Sustainable Fisheries, National Marine Fisheries Service.

[FR Doc. 04-25314 Filed 11-12-04; 8:45 am]

BILLING CODE 3510-22-S